DEPARTMENT OF ENERGY

Federal Energy Regulatory Commission

[Docket No. ER01-1527-006, et al.]

Sierra Pacific Power Company, et al.; Electric Rate and Corporate Filings

April 20, 2005.

The following filings have been made with the Commission. The filings are listed in ascending order within each docket classification.

1. Sierra Pacific Power Company; Nevada Power Company

[Docket Nos. ER01-1527-006 and ER01-1529-006]

Take notice that on March 3, 2005, Sierra Pacific Power Company and Nevada Power Company (collectively, Sierra) submitted a response to recent Commission staff inquiries regarding Sierra's triennial market power study filed October 28, 2004, as supplemented on November 12, 2004.

Comment Date: 5 p.m. eastern time on May 2, 2005.

2. Somerset Windpower, LLC

[Docket Nos. ER01-2139-006 and ER05-661-001]

Take notice that, on April 15, 2005, Somerset Windpower, LLC (Somerset) filed a supplement to its February 28, 2005 filing in Docket Nos. ER01-2139-005 and ER05-661-000.

Somerset states that copies of the filing were served on parties on the official service list for Docket Nos. ER01-2139 and ER05-661 and on the Florida Public Service Commission.

Comment Date: 5 p.m. eastern time on April 22, 2005.

3. Midwest Independent Transmission System Operator, Inc.

[Docket Nos. ER04-691-035 and EL04-104-033]

Take notice that on April 14, 2005 the Midwest Independent Transmission System Operator, Inc. (Midwest ISO) submitted its errata filing to its April 6, 2005 filing in Docket Nos. ER04-691-034 and EL04-104-032. The Midwest ISO requests an effective date of April 1, 2005 for the tariff sheets submitted as part of this filing.

The Midwest ISO states that it has electronically served a copy of this filing, with attachments, upon all Midwest ISO Members, Member representatives of Transmission Owners and Non-Transmission Owners, the Midwest ISO Advisory Committee participants, as well as all State commissions within the region. In addition, the Midwest ISO states that the filing has been electronically posted on the Midwest ISO's Web site at http://www.midwestiso.org under the heading “Filings to FERC” for other interested parties in this matter. The Midwest ISO indicates that it will provide hard copies to any interested parties upon request.

Comment Date: 5 p.m. eastern time on May 5, 2005.

4. Georgia Power Company

[Docket Nos. ER05-282-001 and ER04-939-002]

Take notice that on April 14, 2005, Georgia Power Company (Georgia Power) resubmitted the Control Area Compact by and among Georgia Power Company, Oglethorpe Power Corporation, and Georgia System Operations Corporation (Control Area Compact), accepted by the Commission's letter order issued January 27, 2005 in the above captioned dockets, to reflect a rate schedule designation and other information in accordance with section 35.9 of the Commission's regulations, 18 CFR 35.9 (2004). Georgia Power Company also submitted a Notice of Termination of the Revised and Restated Coordination Services Agreement Between and Among Georgia Power Company, Oglethorpe Power Corporation, and Georgia System Operations Corporation, which has been supplanted by the Control Area Compact.

Comment Date: 5 p.m. eastern time on May 5, 2005.

5. Saracen Energy LP

[Docket No. ER05-493-001]

Take notice that on April 14, 2005, Saracen Energy LP (Saracen Energy) submitted a compliance filing pursuant to the Commission's March 24, 2005 order in this proceeding, 110 FERC ¶ 61,332 (2005). Saracen Energy states that the compliance filing consists of an amendment to Saracen Energy's Rate Schedule FERC No. 1 to reflect the change-in-status reporting requirement adopted in Order No. 652, Reporting Requirement for Change in Status for Public Utilities with Market-Based Rate Authority, 110 FERC ¶ 61,097 (2005).

Saracen Energy states that copies of the filing were served on parties on the official service list in the above-captioned proceeding.

Comment Date: 5 p.m. eastern time on May 5, 2005.

6. Saracen Energy Power Advisors LP

[Docket No. ER05-494-001]

Take notice that on April 14, 2005, Saracen Energy Power Advisors LP (Saracen Power Advisors) submitted a compliance filing pursuant to the Commission's March 24, 2005 order in this proceeding, 110 FERC ¶ 61,332 (2005). Saracen states that the compliance filing consists of an amendment to Saracen Power Advisors's Rate Schedule FERC No. 1 to reflect the change-in-status reporting requirement adopted in Order No. 652, Reporting Requirement for Change in Status for Public Utilities with Market-Based Rate Authority, 110 FERC ¶ 61,097 (2005).

Saracen Power Advisors states that copies of the filing were served on parties on the official service list in the above-captioned proceeding.

Comment Date: 5 p.m. eastern time on May 5, 2005.

7. Saracen Merchant Energy LP

[Docket No. ER05-495-001]

Take notice that, on April 14, 2005, Saracen Merchant Energy LP (Saracen Merchant) submitted a compliance filing pursuant to the Commission's March 24, 2005 order in this proceeding, 110 FERC ¶ 61,332 (2005). Saracen Merchant states that the compliance filing consists of an amendment to Saracen Merchant's Rate Schedule FERC No. 1 to reflect the change-in-status reporting requirement adopted in Order No. 652, Reporting Requirement for Change in Status for Public Utilities with Market-Based Rate Authority, 110 FERC ¶ 61,097 (2005).

Saracen Merchant states that copies of the filing were served on parties on the official service list in the proceeding.

Comment Date: 5 p.m. eastern time on May 5, 2005.

8. Wabash Valley Power Association, Inc.

[Docket No. ER05-814-000]

Take notice that on April 13, 2005, Wabash Valley Power Association, Inc. (Wabash Valley) submitted Wabash Valley Rate Schedule Nos. 33 through 47 and a request for certain waivers of the Commission's regulations.

Wabash Valley states that copies of the filing were served upon Wabash Valley's Members, AES Power, Inc., American Municipal Power-Ohio, Inc., Big Rivers Electric Corporation, Cincinnati Gas and Electric Company, Central Illinois Public Service Company, Indiana Municipal Power Agency, Hoosier Energy Rural Electric Cooperative, Southern Indiana Gas and Electric Company, PSI Energy, Inc., Cinergy Services, Inc., Ontario Power Generation, Inc., Soyland Power Cooperative, Inc., Illinois Municipal Electric Agency, Louisville Gas and Electric Company, Indianapolis Power & Light Company, Northern Indiana Public Service Company, and the State public service commissions in Illinois, Indiana, Michigan and Ohio.

Comment Date: 5 p.m. eastern time on May 4, 2005.

9. PJM Interconnection, L.L.C.

[Docket No. ER05-815-000]

Take notice that on April 13, 2005, PJM Interconnection, L.L.C. (PJM) submitted for filing an executed interconnection service agreement (ISA) among PJM, PSEG Nuclear LLC, Public Service Electric and Gas Company and Atlantic City Electric Company, and a notice of cancellation for an ISA that has been superseded. PJM requests an effective date of March 14, 1005.

PJM states that copies of this filing were served upon the parties to the agreement and the State regulatory commissions within the PJM region.

Comment Date: 5 p.m. eastern time on May 4, 2005.

10. CES Marketing VI, LLC , CES Marketing VII, LLC, CES Marketing VIII, LLC, CES Marketing IX, LLC, CES Marketing X, LLC

[Docket Nos. ER05-816-000, ER05-817-000, ER05-818-000, ER05-819-000, and ER05-820-000]

Take notice that on April 13, 2005, CES Marketing VI, LLC, CES Marketing VII, LLC, CES Marketing VIII, LLC, CES Marketing IX, LLC and CES Marketing X, LLC (Applicants) submitted: (1) proposed rate schedules under which Applicants will make wholesale sales of electric energy, capacity, replacement reserves, and ancillary services at market-based rates, to reassign transmission capacity, and to resell firm transmission rights; (2) requests for the grant of certain blanket approvals; (3) and requests for the grant of certain waivers.

Comment Date: 5 p.m. eastern time on May 4, 2005.

11. Pastoria Energy Facility, L.L.C.

[Docket No. ER05-822-000]

Take notice that on April 14, 2005, Pastoria Energy Facility, L.L.C. (Pastoria) submitted: (1) Notification of a change in the name of the company from Pastoria Energy Center, LLC to Pastoria Energy Facility, L.L.C.; and (2) a revised market-based rate tariff to provide the correct name of the company and to incorporate the reporting requirements adopted by the Commission in Order No. 652, Reporting Requirements for Changes in Status for Public Utilities with Market-Based Rate Authority, 110 FERC ¶ 61,097 (2005).

Pastoria states that a copy of this filing has been mailed to each person designated on the official service list compiled by the Secretary of this proceeding.

Comment Date: 5 p.m. eastern time on May 5, 2005.

12. Florida Power & Light Company

[Docket No. ER05-823-000]

Take notice that on April 14, 2005, Florida Power & Light Company (FPL) tendered for filing a Notice of Cancellation of Service Agreement No. 196, an Interconnection & Operation Agreement between FPL and Blue Heron Energy Center, LLC (Blue Heron). FPL states that the Cancellation of Service Agreement No. 196 has been mutually agreed to by FPL and Blue Heron. FPL requests that the cancellation be made effective March 21, 2005.

FPL states that a copy of the filing was served upon Blue Heron.

Comment Date: 5 p.m. eastern time on May 5, 2005.

13. American Electric Power Service Corporation

[Docket No. ER05-824-000]

Take notice that on April 14, 2004, American Electric Power Service Corporation (AEPSC), tendered for filing a Interconnection and Local Delivery Service Agreement (ILDSA) for Wabash Valley Power Association, Inc. (Wabash Valley) of the Indianapolis, Indiana, and a Facilities Agreement, as an attachment to the ILDSA, for the establishment of a new Delivery Point (the Huntertown Delivery Point) between Wabash Valley and AEP. The ILDSA is being designated and filed as Service Agreement No. 1262 under the PJM Interconnection, LLC (PJM's) FERC Open Access Transmission Tariff Sixth Revised Volume No. 1, pursuant to FERC Order dated February 25, 2005 under Docket Nos. ER04-1003-002 et al. and EL05-62-000. Service Agreement No. 1262 is needed to eliminate from the Network Integration Transmission Service Agreement between AEP and Wabash Valley those transmission related services that are now provided by PJM. AEPSC requests an effective date of April 1, 2005.

AEPSC states that a copy of the filing was served upon Wabash Valley and the Public Service Commissions affected by the filing.

Comment Date: 5 p.m. eastern time on May 5, 2005.

14. Midwest Independent Transmission System Operator, Inc.

[Docket No. ER05-825-000]

Take notice that on April 15, 2005, Midwest Independent Transmission System Operator, Inc., (Midwest ISO) pursuant to section 205 of the Federal Power Act and section 35.13 of the Commission's regulations, 18 CFR 35.13 (2002), submitted for filing revisions to Exhibit A and Exhibit B of the Network Integration Transmission Service Agreement under the Midwest ISO's Open Access Transmission Tariff, FERC Electric Tariff, Second Revised Volume No. 1, between the City of St. Louis, Michigan and the Midwest ISO.

Midwest ISO states that a copy of this filing has been served on all parties on the official service list compiled by the Secretary in this proceeding.

Comment Date: 5 p.m. eastern time on May 6, 2005.

15. Consolidated Edison Company of New York, Inc.

[Docket No. ER05-826-000]

Take notice that on April 15, 2005, Consolidated Edison Company of New York, Inc. (Con Edison) tendered for filing amendments to Con Edison's Open Access Transmission Tariff, FERC Electric Tariff, First Revised Volume No. 1. Con Edison states that the filing proposes to revise the rate design for unbundled retail transmission service to customers that own on-site electric generators. Con Edison requests an effective date of June 14, 2005.

Comment Date: 5 p.m. eastern time on May 6, 2005.

16. Northeast Utilities Service Company

[Docket No. ER05-827-000]

Take notice that on April 15, 2005, Northeast Utilities Service Company (NUSCO), on behalf of its operating company affiliates, The Connecticut Light and Power Company (CL&P), Western Massachusetts Electric Company (WMECO), Holyoke Water Power Company (HWP), Holyoke Power and Electric Company (HP&E), and Public Service Company of New Hampshire (PSNH), submitted a Notice of Cancellation of the Memorandum of Understanding—Pooling of Generation and Transmission (NUG&T) between CL&P, WMECO, HWP, and HP&E; Notice of Cancellation of the Sharing Agreement between PSNH and CL&P; and Notice of Cancellation of the Capacity Transfer Agreements between CL&P and PSNH.

NUSCO states that copies of the filing were served upon the NUSCO's jurisdictional customers, Connecticut Department of Public Utility Control, New Hampshire Public Utilities Commission, and Massachusetts Department of Telecommunications and Energy.

Comment Date: 5 p.m. eastern time on May 6, 2005.

17. Northwestern Wisconsin Electric Company

[Docket No. ER05-828-000]

Take notice that April 15, 2005, Northwestern Wisconsin Electric Company, (NWEC) tendered for filing proposed changes in its Transmission Use Charge, Rate Schedule FERC No. 2. NWEC states that the proposed changes would increase revenues from jurisdictional sales by $4,409.20 based on the 12-month period ending April 30, 2005. NWEC also states that it is proposing this rate schedule change to more accurately reflect the actual cost of transmitting energy from one utility to another based on current cost data. NWEC further states that the service agreement for which this rate is calculated calls for the Transmission Use Charge to be reviewed annually and revised on May 1. NWEC requests an effective date of May 1, 2005.

NWEC states that copies of this filing have been provided to the respective parties and to the Public Service Commission of Wisconsin.

Comment Date: 5 p.m. eastern time on May 6, 2005.

18. American Transmission Company LLC

[Docket No. ER05-829-000]

Take notice that on April 15, 2005, American Transmission Company LLC (ATCLLC) tendered for filing a Distribution-Transmission Interconnection Agreement between ATCLLC and Lodi Utilities. ATCLLC requests an effective date of March 31, 2005.

ATCLLC states that it has served a copy of this filing on Lodi Utilities, the Midwest ISO, and the Public Service Commission of Wisconsin.

Comment Date: 5 p.m. eastern time on May 6, 2005.

19. Xcel Energy Services Inc.

[Docket No. ER05-830-000]

Take notice that on April 15, 2005, Xcel Energy Services Inc., on behalf of Public Service Company of Colorado (PSCo), submitted an Amended and Restated Generation Interconnection Agreement between Ridge Crest Wind Partners, LLC and PSCo.

Comment Date: 5 p.m. eastern time on May 6, 2005.

20. East Texas Electric Cooperative, Inc.

[Docket No. ER05-831-000]

Take notice that on April 13, 2005, East Texas Electric Cooperative, Inc. (ETEC) submitted for filing a withdrawal of its filed rates, effective upon ETEC's April 13, 2005 receipt of Rural Utilities Service guaranteed loan funds, ETEC will no longer meet the definition of a “public utility” pursuant to section 201 of the Federal Power Act, 16 U.S.C. 824 and thus will not be subject to regulation by the Commission for so long as ETEC has RUS loan funds outstanding.

ETEC states that it has provided its three constituent members with a copy of this filing.

Comment Date: 5 p.m. eastern time on May 4, 2005.

21. American Transmission Company LLC

[Docket No. ER05-833-000]

Take notice that on April 13, 2005, American Transmission Company LLC (ATCLLC) tendered for filing an Amended and Restated Generation-Transmission Interconnection Agreement among American Transmission Company LLC, Wisconsin Electric Power Company, and the Midwest Independent Transmission System Operator, Inc., (for the Elm Road Generating Facility) Docket No. ER02-548-001. ATCLLC requests an effective date of April 16, 2005.

Comment Date: 5 p.m. eastern time on May 4, 2005.

22. American Transmission Company LLC

[Docket No. ER05-834-000]

Take notice that on April 14, 2005, American Transmission Company LLC (ATCLLC) tendered for filing an Amended and Restated Generation-Transmission Interconnection Agreement among American Transmission Company LLC, Wisconsin Electric Power Company, and the Midwest Independent Transmission System Operator, Inc., (for Port Washington Generating Facility) Docket No. ER02-548-001. ATCLLC requests an effective date of April 17, 2005.

Comment Date: 5 p.m. eastern time on May 5, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-2039 Filed 4-27-05; 8:45 am]

BILLING CODE 6717-01-P